DEPARTMENT OF HOUSING AND URBAN DEVELOPMENT

[Docket No. FR-4837-D-49]

Delegation of Authority Under Section 550 of the Federal Property and Administrative Services Act of 1949

AGENCY: Office of the Secretary, HUD.

ACTION: Notice.

SUMMARY: In this notice, the Secretary of Housing and Urban Development delegates to the Assistant Secretary for Housing-Federal Housing Commissioner certain authority provided to the Secretary under the Federal Property and Administrative Services Act of 1949.

EFFECTIVE DATE: March 9, 2004.

FOR FURTHER INFORMATION CONTACT: Janet Golrick, Office of Housing, Room 6112, Department of Housing and Urban Development, 451 Seventh Street, SW., Washington, DC 20410-8000, telephone (202) 708-2495 (this is not a toll-free number). Persons with speech or hearing impairments may access this number through TTY by calling the toll-free Federal Information Relay Service at 800-877-8339.

SUPPLEMENTARY INFORMATION: The Federal Property and Administrative Services Act of 1949 (40 U.S.C. chapter 10) (the Act) authorizes the Secretary of Housing and Urban Development, in consultation with the Administrator of General Services to dispose of surplus federal property to states, their political subdivisions or instrumentalities, and nonprofit organizations for the purpose of providing self-help housing to low-income individuals. The Act also authorizes the Secretary to enforce and revise instruments that provide for the transfer of the property. These responsibilities are being delegated by the Secretary to the Assistant Secretary for Housing-Federal Housing Commissioner.

Accordingly, the Secretary delegates the authority as follows:

Section A. Authority Delegated

The Secretary delegates to the Assistant Secretary for Housing-Federal Housing Commissioner the Secretary's authority under section 550 of the Act (40 U.S.C. 484) to (1) recommend surplus federal real property to the Administrator of General Services as needed for providing housing or housing assistance for low-income persons, (2) take all steps reasonably necessary to sell and lease surplus federal property for that purpose, including fixing sale or lease value, and (3) develop, enforce, and revise instruments transferring such property.

Section B. Authority to Redelegate

The Assistant Secretary for Housing-Federal Housing Commissioner is authorized to redelegate to employees of the Department the authority delegated under Section A.

Authority: Section 550 of the Federal Property and Administrative Services Act of 1949 (40 U.S.C. 484), and section 7(d) of the Department of Housing and Urban Development Act (42 U.S.C. 3535(d)).

Dated: March 9, 2004.
Alphonso Jackson,
Acting Secretary.

[FR Doc. 04-5829 Filed 3-15-04; 8:45 am]

BILLING CODE 4210-32-P